Title 3—

The President

Memorandum of May 5, 2005

Designation of Officers of the Office of Personnel

Management to Act as Director of the Office of Personnel Management

Memorandum for the Director of the Office of Personnel Management

By the authority vested in me as President under the Constitution and laws of the United States of America and pursuant to the Federal Vacancies Reform Act of 1998, 5 U.S.C. 3345 et seq., I hereby order that:

Section 1. Order of Succession.

During any period when the Director of the Office of Personnel Management (Director), or the Deputy Director of the Office of Personnel Management, has died, resigned, or otherwise become unable to perform the functions and duties of the office of Director, the following officers of the Office of Personnel Management, in the order listed, shall perform the functions and duties of the office of Director, if they are eligible to act as Director under the provisions of the Federal Vacancies Reform Act of 1998, until such time as at least one of the officers mentioned above is able to perform the functions and duties of the office of Director:

General Counsel;

Chief of Staff;

Director, Office of Communications and Public Liaison;

Director, Office of Congressional Relations;

Associate Director, Human Resources Products and Services;

Associate Director for Management;

Associate Director, Strategic Human Resources Policy;

Chief Financial Officer;

Associate Director, Human Capital Leadership and Merit Systems Accountability;

Deputy Associate Director, Center for Investigations Services; and

Director, Federal Executive Institute.

Sec. 2. Exceptions.

(a)

No individual who is serving in an office listed in section 1 in an acting capacity, by virtue of so serving, shall act as Director pursuant to this memorandum.

(b)

Notwithstanding the provisions of this memorandum, the President retains discretion, to the extent permitted by the Federal Vacancies Reform Act of 1998, 5 U.S.C. 3345-3349d, to depart from this memorandum in designating an acting Director.

Sec. 3. Prior Memorandum Superceded.

This memorandum supercedes the Presidential Memorandum of March 11, 2003, entitled, “Designation of Officers of the Office of Personnel Management to Act as Director of the Office of Personnel Management.”

Sec. 4. Publication.

You are authorized and directed to publish this memorandum in the Federal Register.

B

THE WHITE HOUSE,

Washington, May 5, 2005.

[FR Doc. 05-10106

Filed 5-18-05; 8:45 am]

Billing code 6325-48-P